DEPARTMENT OF ENERGY

Federal Energy Regulatory Commission

[Project No. 13808-000; Project No. 13813-000]

Lock+ Hydro Friends Fund XLIX; FFP Missouri 14, LLC; Notice of Competing Preliminary Permit Applications Accepted for Filing and Soliciting Comments, Motions To Intervene, and Competing Applications

August 9, 2010.

Lock+ Hydro Friends Fund XLIX (Hydro Friends) and FFP Missouri 14, LLC (FFP) filed preliminary permit applications, pursuant to section 4(f) of the Federal Power Act, proposing to study the feasibility of developing hydropower projects at the U.S. Army Corps of Engineers (Corps) New Savannah Bluff Lock and Dam, located on the Savannah River near the City of Augusta, GA, in Richmond County, GA, and Aiken County, SC. Both applications were filed electronically and given the filing date of July 12, 2010, at 8:30 a.m. The sole purpose of a preliminary permit, if issued, is to grant the permit holder priority to file a license application during the permit term. A preliminary permit does not authorize the permit holder to perform any land-disturbing activities or otherwise enter upon lands or waters owned by others without the owners' express permission.

The proposed projects are described as follows:

The New Savannah Bluff Lock and Dam Hydroelectric Project, Project No. 13808-000, filed on July 12, 2010 at 8:30 a.m., would consist of: (1) One 75-foot-wide lock frame module placed downstream from the New Savannah Bluff Dam, housed between two pre-fabricated concrete walls that would guide flows into the turbines; (2) the lock frame module would consist of seven hydropower turbines, each rated at 1.25 megawatts (MW) and have a total rated capacity of 8.75 MW; (3) fish/debris screens located upstream of the module; (4) a new transformer in a switchyard which would be located on the south bank of the river; and (5) a 3-mile-long 69-kilovolt (kV) transmission line extending from the switchyard to an existing sub-station located south-west of the dam. Hydro Friends is also exploring alternatives that would locate the module in the downstream section of the Corps lock, and upstream of the dam. Each design would have an average annual generation of 57,526 megawatt-hours/year (MWh/yr). The project would operate run-of-river and utilize flows released from the New Savannah Bluff Dam.

The New Savannah Bluff Lock and Dam Hydroelectric Project, Project No. 13813-000, filed on July 12, 2010 at 8:30 a.m., would consist of: (1) Two to four compact bulb turbines, with a combined generation capacity of 7.0 MW, placed in the existing gate bays of the Corps New Savannah Bluff Dam; (2) a 30-foot x 40-foot control building located on the South Carolina side of the river; and (3) a 10,900-foot-long transmission line extending south from a switchyard near the dam to an existing transmission line located south of the project. FFP is also exploring an alternative that would involve construction of a new powerhouse, intake channel, and tailrace opposite the lock structure on the South Carolina side of the river. Each design would have an average annual generation of 57,000 MWh/yr. The project would utilize flows from the New Savannah Bluff Dam and operate as directed by the Corps.

Applicants Contact: For Hydro Friends: Mr. Wayne F. Krouse, Chairman and CEO, Hydro Green Energy, LLC, 5090 Richmond Avenue #390, Houston, TX 77056. (877) 556-6566 x709. For FFP: Mr. Ramya Swaminathan, Free Flow Power Corporation, 33 Commercial Street, Gloucester, MA 01930. (978) 283-2822.

FERC Contact: Monte TerHaar, monte.terhaar@ferc.gov, (202) 502-6035.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text-only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13808-000, or P-13813-000) in the docket number field to access the document. For assistance, contact FERC Online Support.

Nathaniel J. Davis, Sr.,
Deputy Secretary.

[FR Doc. 2010-20128 Filed 8-13-10; 8:45 am]

BILLING CODE 6717-01-P